SECURITIES AND EXCHANGE COMMISSION

[File No. 500-1]

In the Matter of Aegis Assessments, Inc., APC Group, Inc., Aurelio Resource Corp., BioAuthorize Holdings, Inc., and Fonix Corporation; Order of Suspension of Trading

June 7, 2012.

It appears to the Securities and Exchange Commission that there is a lack of current and accurate information concerning the securities of Aegis Assessments, Inc. because it has not filed any periodic reports since the period ended January 31, 2007.

It appears to the Securities and Exchange Commission that there is a lack of current and accurate information concerning the securities of APC Group, Inc. because it has not filed any periodic reports since the period ended August 31, 2009.

It appears to the Securities and Exchange Commission that there is a lack of current and accurate information concerning the securities of Aurelio Resource Corp. because it has not filed any periodic reports since the period ended September 30, 2009.

It appears to the Securities and Exchange Commission that there is a lack of current and accurate information concerning the securities of BioAuthorize Holdings, Inc. because it has not filed any periodic reports since the period ended September 30, 2009.

It appears to the Securities and Exchange Commission that there is a lack of current and accurate information concerning the securities of Fonix Corporation because it has not filed any periodic reports since the period ended September 30, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 7, 2012 through 11:59 p.m. EDT on June 20, 2012.

By the Commission.
Jill M. Peterson,
Assistant Secretary.

[FR Doc. 2012-14235 Filed 6-7-12; 4:15 pm]

BILLING CODE 8011-01-P